DEPARTMENT OF HOMELAND SECURITY

Coast Guard

33 CFR Part 117

[Docket No. USCG-2012-0305]

Drawbridge Operation Regulations; Niantic River, Niantic, CT

AGENCY: Coast Guard, DHS.

ACTION: Notice of temporary deviation from regulations.

SUMMARY: The Commander, First Coast Guard District, has issued a temporary deviation from the regulation governing the operation of the Amtrak Railroad Bridge across the Niantic River, mile 0.0, at Niantic, Connecticut. The deviation allows the bridge to remain in the closed position for 20 nights to facilitate completion of work on machinery and the lift span.

DATES: This deviation is effective from May 15, 2012 through August 15, 2012.

ADDRESSES: Documents mentioned in this preamble as being available in the docket are part of docket USCG-2012-0305 and are available online at www.regulations.gov, inserting USCG-2012-0305 in the “Keyword” and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Ms. Judy Leung-Yee, Project Officer, First Coast Guard District, telephone (212) 668-7165, email judy.k.leung-yee@uscg.mil. If you have questions on viewing the docket, call Renee V. Wright, Program Manager, Docket Operations, telephone 202-366-9826.

SUPPLEMENTARY INFORMATION: The Amtrak Railroad Bridge, across the Niantic River, mile 0.0, at Niantic, Connecticut, has a vertical clearance in the closed position of 16 feet at mean high water. The drawbridge operation regulations are listed at 33 CFR 117.215(a).

The operator of the bridge, National Passenger Railroad Corporation (Amtrak), requested a temporary deviation from the regulations to facilitate completion of machinery installation and lift span work at the new Niantic River RR Bridge. To facilitate completion of the work at the new bridge, Amtrak has requested a total of 20 nighttime closures between 11 p.m. through 6 a.m., Monday through Thursday, beginning May 15, 2012 until August 15, 2012.

The waterway users are recreational vessels and seasonal fishing boats.

Under this temporary deviation the Amtrak Railroad Bridge may remain in the closed position during the hours of 11 p.m. until 6 a.m., Monday through Thursday, beginning May 15, 2012 until August 15, 2012. The Amtrak Railroad Bridge will require 20 nighttime closures during this period. The exact calendar dates for the closures have not been established due to other related construction at the bridge. The exact closure dates will be published in the Local Notice to Mariners one week in advance of the closures.

Vessels that can pass under the bridge in the closed position may do so at all times.

The waterway users were advised of the requested bridge closure and offered no objection.

In accordance with 33 CFR 117.35(e), the bridge must return to its regular operating schedule immediately at the end of the designated time periods. This deviation from the operating regulations is authorized under 33 CFR 117.35.

Dated: April 24, 2012.
Gary Kassof,
Bridge Program Manager, First Coast Guard District.

[FR Doc. 2012-10601 Filed 5-1-12; 8:45 am]

BILLING CODE 9110-04-P